DEPARTMENT OF TRANSPORTATION

Federal Railroad Administration

[Docket Number FRA-2016-0018]

Petition for Extension of Waiver of Compliance

Under part 211 of title 49 Code of Federal Regulations (CFR), this document provides the public notice that on December 15, 2021, Union Pacific Railroad (UP) petitioned the Federal Railroad Administration (FRA) to extend a waiver of compliance from certain provisions of the Federal railroad safety regulations contained at 49 CFR part 232, Brake System Safety Standards for Freight and Other Non-Passenger Trains and Equipment; End-of-Train Devices. UP also requests to extend an exemption from the requirements of title 49, United States Code (U.S.C.), section 20303, which mandate that a rail vehicle with defective or insecure equipment may be moved to make repairs only to the nearest available place at which the repairs can be made. The relevant FRA Docket Number is FRA-2016-0018.

Specifically, UP requests to extend its relief from 49 CFR 232.213, Extended haul trains; 232.15, Movement of defective equipment; and 232.103(f), General requirements for all train brake systems, to continue using wheel temperature detectors (WTD) on a segment of UP track to measure potential safety improvements and cost reductions on brake testing and maintenance. UP states that operations of trains under the waiver have demonstrated a significantly positive effect on the safety of train operations. Further, UP continues to collect data through the test component of the waiver and work with the test waiver oversight committee. UP also seeks clarification on condition 12 of the February 23, 2017, decision letter.¹

¹ https://www.regulations.gov/document/FRA-2016-0018-0013.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at https://www.regulations.gov. Follow the online instructions for submitting comments.

Communications received by February 7, 2022 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
Carolyn Hayward-Williams,
Director, Office of Railroad Systems and Technology.

[FR Doc. 2021-27791 Filed 12-22-21; 8:45 am]

BILLING CODE 4910-06-P